DEPARTMENT OF COMMERCE

National Institute of Standards and Technology

National Advanced Spectrum and Communications Test Network: Characterizing User Equipment Emissions

AGENCY: National Institute of Standards and Technology, Department of Commerce.

ACTION: Announcement of meeting.

SUMMARY: The National Advanced Spectrum and Communications Test Network (NASCTN) is hosting a public meeting on the conclusion of their project Characterizing User Equipment Emissions on May 13, 2021 at 10:00 a.m.-12:30 p.m. Mountain Daylight Time. The purpose of this meeting is to bring together federal, industry, and academic stakeholders; to disseminate NASCTN's findings; and to share information.

DATES: The NASCTN meeting on Characterizing User Equipment Emissions will take place on May 13, 2021 at 10:00 a.m.-12:30 p.m. Mountain Daylight Time.

ADDRESSES: The meeting will be held via web conference. For instructions on how to participate in the meeting, please see the SUPPLEMENTARY INFORMATION section of this notice.

FOR FURTHER INFORMATION CONTACT: Matt Briel at matthew.briel@nist.gov or 303-908-2747.

SUPPLEMENTARY INFORMATION: The National Advanced Spectrum and Communications Test Network (NASCTN) is hosting a public meeting on the conclusion of their project Characterizing User Equipment Emissions on May 13, 2021 at 10:00 a.m.-12:30 p.m. Mountain Daylight Time. The purpose of this meeting is to bring together federal, industry, and academic stakeholders; to disseminate NASCTN's findings; and to share information.

This project characterizes cellular emissions (LTE uplinks) to support interference models used to coordinate commercial carrier deployments in the AWS-3 band (1755-1780 MHz band) with Department of Defense systems that remain in the band. This effort consisted of two parts: (1) A Factor Screening effort which identified the key factors impacting emissions, and (2) characterization of factors impacting UE uplink emissions when closed-loop power control is enabled in the cell, and models of the emissions over operational scenarios. The output of this work can aid in the development of emissions models and interference calculations in the AWS-3 band and beyond.

More information about this project can be found on our website: https://www.nist.gov/programs-projects/characterizing-user-equipment-emissions.

Individuals and representatives of organizations who would like to ask questions or offer suggestions related to the test are invited to request a place on the agenda. Approximately fifteen minutes will be reserved for public comments and speaking times will be assigned on a first-come, first-served basis. Public comments can be provided via email or by web conference attendance. The amount of time per speaker will be determined by the number of requests received. All those wishing to speak must submit their request by email to matthew.briel@nist.gov by 5:00 p.m. Mountain Daylight Time, May 11, 2021. Speakers who wish to expand upon their oral statements, those who wish to speak but cannot be accommodated on the agenda, and those who are unable to attend are invited to submit written statements electronically by email to matthew.briel@nist.gov.

Anyone wishing to attend this meeting via web conference must register by 5:00 p.m. Mountain Daylight Time, May 11, 2021. Please submit your full name, email address, and phone number to Matt Briel at matthew.briel@nist.gov.

Authority: 15 U.S.C. 272.

Alicia Chambers,
NIST Executive Secretariat.

[FR Doc. 2021-09411 Filed 5-4-21; 8:45 am]

BILLING CODE 3510-13-P